PRESIDIO TRUST

Public Health Service Hospital, The Presidio of San Francisco (Presidio), California; Extension of Public Scoping Period

ACTION: The Presidio Trust (Trust) is extending the public scoping period from November 26, 2003 to December 10, 2003 and adding a second public meeting on December 10, 2003 to provide greater opportunities for public and agency participation in the Public Health Service Hospital (PHSH) project's environmental review process under the National Environmental Policy Act (NEPA).

SUPPLEMENTARY INFORMATION: On September 9, 2003, the Trust published a notice in the Federal Register announcing the start of public scoping and its intention to prepare an environmental assessment (EA) under the NEPA for the proposed rehabilitation and reuse of historic buildings in the PHSH district of the Presidio (68 FR 53205-06). As part of the EA scoping process and as announced in the notice, the Trust held a public Trust Board meeting on October 29, 2003 to accept oral comments on the scope of alternatives and environmental impacts to be considered in the EA. The public scoping period, as first announced, ends November 26, 2003. The Trust desires to provide additional opportunities for public and agency comment on the project beyond what was first announced.

At the public meeting on October 29, 2003, the Trust announced to meeting participants the scheduling of a second opportunity for the public to address the Board directly on the PHSH project. Through this Federal Register notice and other public means, the Trust is more broadly announcing the second public Trust Board meeting and is extending the public comment period on the EA to December 10, 2003.

Scoping Meeting and Comments: The Trust will accept additional oral comments on the scope of alternatives and issues to be addressed under the NEPA in the PHSH EA at a public Trust Board meeting on December 10, 2003, the exact time and location to be announced. The deadline for all scoping comments on the EA is also December 10, 2003. Written scoping comments must be postmarked, transmitted or delivered no later than December 10, 2003 to the Trust contact person below. Please note that written comments will be made available to the public.

FOR FURTHER INFORMATION CONTACT: John Pelka, NEPA Compliance Coordinator, the Presidio Trust, 34 Graham Street, P.O. Box 29052, San Francisco, CA 94129-0052 (fax: 415/561-2790) or phsh@presidiotrust.gov.

Dated: November 5, 2003.
Karen A. Cook,
General Counsel.

[FR Doc. 03-28290 Filed 11-10-03; 8:45 am]

BILLING CODE 4310-4R-P